DEPARTMENT OF HEALTH AND HUMAN SERVICES

Administration for Children and Families

Notice of the Award of a Single-Source Program Expansion Supplement to Pima County Community College District in Tucson, AZ

AGENCY: Office of Family Assistance, ACF, HHS.

ACTION: Award of a Single-Source Program Expansion Supplement to Pima County Community College District, a public/state controlled institution of higher education in Tucson, Arizona.

CFDA Number: 93.093.

Statutory Authority: Section 2008(a) of Title XX of the Social Security Act, as amended by Section 5507 of the Affordable Care Act (Pub. L. 111-148).

SUMMARY: This Administration for Children and Families (ACF), Office of Family Assistance (OFA), Health Profession Opportunity Grants (HPOG) program announces the award of a single-source program expansion supplement to Pima County Community College District (PCC), a public/state controlled institution of higher education in Tucson, Arizona. Expansion supplement funds will support the acceleration of enrollment in Project Year Two, necessitated by a random assignment study entitled—Innovative Strategies for Increasing Self-Sufficiency (ISIS). This allows PCC to meet the sample size required by ISIS in the specific time period.

PCC was found to be an ideal fit as an ISIS evaluation site due to its unique program characteristics. The program has a clear articulated career pathway program, capacity to achieve a treatment sample of 500 or more over two project years, and a treatment sample that would be clearly distinct from the control sample because of the provision of intensive support and HPOG specific classes that are contextualized and compressed.

DATES: The project period for the award is September 30, 2011-September 29, 2012.

FOR FURTHER INFORMATION CONTACT: Stan Koutstaal, Program Manager, Office of Family Assistance, 370 L'Enfant Promenade SW., Washington, DC 20447. Telephone: 202-401-5457; Email: stanley.koutstaal@acf.hhs.gov.

Earl S. Johnson,
Director, Office of Family Assistance.

[FR Doc. 2012-11489 Filed 5-10-12; 8:45 am]

BILLING CODE 4184-48-P